DEPARTMENT OF COMMERCE

National Oceanic and Atmospheric Administration

RTID 0648-XA492

Marine Mammals; File No. 22382

AGENCY: National Marine Fisheries Service (NMFS), National Oceanic and Atmospheric Administration (NOAA), Commerce.

ACTION: Notice; issuance of permit.

SUMMARY: Notice is hereby given that a permit has been issued to SeaWorld, LLC. (Responsible Party: Christopher Dold, DVM), 9205 Southpark Center Loop, Suite 400, Orlando, Florida 32819, to import one stranded, non-releasable (captive) adult female Pacific white-sided dolphin (Lagenorhynchus obliquidens) for public display purposes.

ADDRESSES: The permit and related documents are available online at https://www.fisheries.noaa.gov/action/seaworld-permit-application-import-pacific-white-sided-dolphin.

FOR FURTHER INFORMATION CONTACT: Courtney Smith or Jennifer Skidmore, (301) 427-8401.

SUPPLEMENTARY INFORMATION: On March 12, 2020, notice was published in the Federal Register (85 FR 14467) that a request for a public display import permit had been submitted by the above-named applicant. The requested permit has been issued under the authority of the Marine Mammal Protection Act of 1972, as amended (16 U.S.C. 1361 et seq.) and the regulations governing the taking and importing of marine mammals (50 CFR part 216).

The permit authorizes the importation of one stranded, non-releasable (captive) adult female Pacific white-sided dolphin from Vancouver Aquarium (Vancouver, British Columbia, Canada) to SeaWorld of Texas (San Antonio, Texas) for public display purposes. The permit will expire on September 15, 2023, or upon the importation of the dolphin, whichever occurs first. The permit authorizes the importation only, which may occur over the 3-year duration of the permit. Once the dolphin is transported to SeaWorld of Texas, a permit is not required for its holding under public display.

In compliance with the National Environmental Policy Act of 1969 (42 U.S.C. 4321 et seq.), a final determination has been made that the activity proposed is categorically excluded from the requirement to prepare an environmental assessment or environmental impact statement.

Dated: September 22, 2020.
Julia Marie Harrison,
Chief, Permits and Conservation Division, Office of Protected Resources, National Marine Fisheries Service.

[FR Doc. 2020-21317 Filed 9-25-20; 8:45 am]

BILLING CODE 3510-22-P